DEPARTMENT OF TRANSPORTATION

Federal Aviation Administration

Notice of Intent To Rule on Application 03-03-C-00-UNV To Impose and use the Revenue From a Passenger Facility Charge (PFC) at University Park Airport, University Park, PA

AGENCY: Federal Aviation Administration (FAA), DOT.

ACTION: Notice of intent to rule on application.

SUMMARY: The FAA proposes to rule and invites public comment on the application to impose and use the revenue from a PFC at University Park Airport under the provisions of the 49 U.S.C. 40117 and Part 158 of the Federal Aviation Regulations (14 CFR Part 158).

DATES: Comments must be received on or before date, which is 30 days after date of publication in the Federal Register.

ADDRESSES: Comments on this application may be mailed or delivered in triplicate to the FAA at the following address: Ms. Lori Ledebohm, Community Planner/PFC Contact, Harrisburg Airports District Office, 3905 Hartzdale Drive, Suite 508, Camp Hill, PA 17011.

In addition, one copy of any comments submitted to the FAA must be mailed or delivered to William R. Stacey of The Pennsylvania State University at the following address: Room 106 Physical Plant, University Park, Pennsylvania 16803.

Air carriers and foreign air carriers may submit copies of written comments previously provided to The Pennsylvania State University under section 158.23 of Part 158.

FOR FURTHER INFORMATION CONTACT: Lori Ledebohm, Community Planner/PFC Contact, Harrisburg Airports District Office, 3905 Hartzdale Drive, Suite 508, Camp Hill, PA 17011, 717-730-2835. The application may be reviewed in person at this same location.

SUPPLEMENTARY INFORMATION: The FAA proposes to rule and invites public comment on the application to impose and use the revenue from a PFC at University Park Airport under the provisions of the 49 U.S.C. 40117 and Part 158 of the Federal Aviation Regulations (14 CFR Part 158).

On June 5, 2003, the FAA determined that the application to impose and use the revenue from a PFC submitted by The Pennsylvania State University was substantially complete within the requirements of § 158.25 of Part 158. The FAA will approve or disapprove the application, in whole or in part, no later than September 24, 2003.

The following is a brief overview of the application.

Proposed charge effective date: October 1, 2004.

Proposed charge expiration date: August 1, 2009.

Level of the proposed PFC: $4.50.

Total estimated PFC revenue: $1,510,612,

Brief description of proposed project(s):

Replace AWOS III

Acquire ARFF Vehicle (15 gallons)

Acquire Snow Removal Vehicles

Remove Obstructions RW 6-24 RPZ

Automatic Deicing Containment Facility

Conduct 5 Year Environmental Assessment

Relocate REILS (RW 6)

Update Hold Position Markings

Rehabilitate and Expand Terminal Apron

Security Enhancements (Conduct Security Study)

Conduct Terminal Area Plan

Conduct Airport Geographic Information System, Phase II

Modify Terminal Building

Acquire Land for Runway Approach—Emberton

Acquire ARFF Safety Equipment (Fire Suits)

Construct Deicing Contaminant Facility, Phase I—Study/Design & Phase II—Construction

Acquire Handicap Passenger Boarding Device

Design & Construct Snow Removal Storage Building

PFC Audits

Class or classes of air carriers which the public agency has requested not be required to collect PFCs: air taxis operating Part 135, and filing form 1100—1800-31.

Any person may inspect the application in person at the FAA office listed above under FOR FURTHER INFORMATION CONTACT and at the FAA regional Airports office located at: Eastern Region, Airports Division, AEA-610, 1 Aviation Plaza, Jamaica, New York 11434.

In addition, any person may, upon request, inspect the application, notice and other documents germane to the application in person at The Pennsylvania State University.

Issued in Camp Hill, PA on June 17, 2003.
Lori Ledebohm,
PFC Coordinator, Harrisburg Airports District Office, Eastern Region.

[FR Doc. 03-15959 Filed 6-23-03; 8:45 am]

BILLING CODE 4910-13-M